DEPARTMENT OF TRANSPORTATION

Federal Aviation Administration

14 CFR Part 71

[Docket No. FAA-2012-0966; Airspace Docket No. 12-AWA-5]

RIN 2120-AA66

Proposed Modification of Class B Airspace; Las Vegas, NV

AGENCY: Federal Aviation Administration (FAA), DOT.

ACTION: Notice of proposed rulemaking (NPRM).

SUMMARY: This action proposes to modify the Las Vegas, NV, Class B airspace area to ensure the containment of large turbine-powered aircraft within Class B airspace, reduce air traffic controller workload, and reduce the potential for midair collision in the Las Vegas terminal area.

DATES: Comments must be received on or before December 26, 2012.

ADDRESSES: Send comments on this proposal to the U.S. Department of Transportation, Docket Operations, M-30, 1200 New Jersey Avenue SE., West Building Ground Floor, RoomW12-140, Washington, DC 20590-0001; telephone: (202) 366-9826. You must identify FAA Docket No. FAA-2012-0966 and Airspace Docket No. 12-AWA-5, at the beginning of your comments. You may also submit comments through the Internet at http://www.regulations.gov.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2012-0966 and Airspace Docket No. 12-AWA-5) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to Docket Nos. FAA-2012-0966 and Airspace Docket No. 12-AWA-5.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://www.regulations.gov.

You may review the public docket containing the proposal, any comments received, and any final disposition in person in the Dockets Office (see ADDRESSES section for address and phone number) between 9:00 a.m. and 5.00 p.m., Monday through Friday, except Federal holidays. An informal docket may also be examined during normal business hours at the office of the Western Service Center, Operations Support Group, Federal Aviation Administration, 1601 Lind Ave. SW., Renton, WA 98057.

Persons interested in being placed on a mailing list for future NPRMs should contact the FAA's Office of Rulemaking, (202) 267-9677, for a copy of Advisory Circular No. 11-2A, Notice of Proposed Rulemaking Distribution System, which describes the application procedure.

Background

In August 1974, the FAA issued a final rule establishing the Las Vegas, NV, Terminal Control Area (TCA) with an effective date of November 11, 1974 (39 FR 28518). The Las Vegas TCA configuration was modified in 1982 by raising some area floors to provide greater flexibility for aircraft wishing to avoid the airspace and by lowering and realigning other areas to ensure that turbine-powered aircraft operations were fully contained within the TCA (47 FR 30052).

In 1993, as part of the Airspace Reclassification Final Rule (56 FR 65638), the term “terminal control area” was replaced by “Class B airspace area.” That rule did not change the configuration of the TCA/Class B airspace area.

The primary purpose of Class B airspace is to reduce the potential for midair collisions in the airspace surrounding airports with high density air traffic operations by providing an area in which all aircraft are subject to certain operating rules and equipment requirements. FAA policy requires that Class B airspace areas be designed to contain all instrument procedures and that air traffic controllers are to vector aircraft to remain within Class B airspace after entry. Controllers must inform the aircraft when leaving and re-entering Class B airspace if it becomes necessary to extend the flight path outside Class B airspace for spacing. However, in the interest of safety, FAA policy dictates that such extensions be the exception rather than the rule.

Since the Las Vegas Class B airspace was last modified in 1982, traffic volume and passenger enplanements have risen significantly. Recent development and implementation of arrival and departure procedures based on RNAV and satellite-based navigation have resulted in changes to traffic flows and climb/descent profiles serving McCarran International Airport (LAS). Today, over 95 percent of scheduled flights in the LAS terminal area are RNAV equipped and the general aviation community equipage has advanced in step. After these procedures were implemented, the FAA conducted a review of the Class B airspace area. The review included a 30-day sampling of flight tracks in the current Class B conducted in February-March 2010. Analysis of the sampling revealed that 2,880 aircraft temporarily exited the Class B airspace while arriving at or departing from LAS. The same data were then reprocessed utilizing the proposed Class B airspace design to evaluate whether any differences could be realized with the airspace modifications. The analysis indicated the potential for a reduction in the number of Class B excursions by an average of 69 percent. It was determined that Class B airspace modifications are necessary to reduce the number of Class B excursions and increase the number of air traffic operations that would be contained within the Class B.

McCarran International Airport is located in a valley surrounded by mountainous terrain. Three airports lie in close proximity to LAS: Nellis Air Force Base (LSV) is 11 NM northeast of LAS; North Las Vegas Airport (VGT) is 8 NM northwest; and Henderson Executive Airport (HND) is 6 NM south; all of which contribute to the high density of air traffic in the valley. Due to the combination of terrain, high density air traffic and airspace to the north that is delegated to the Nellis Air Traffic Control Facility, high performance aircraft operating at LAS are restricted to very limited arrival and departure routings. These factors compress aircraft onto heavily used routes, which are directly dependent upon the structure of Class B airspace to ensure safety and efficiency. VFR aircraft transition daily above the LAS downwind and departure areas and are routinely potential conflicts for LAS arrival and departure traffic.

The airspace north of LAS and VGT is highly congested with military aircraft operating to and from Nellis AFB. Potential routes into and out of VGT and LAS on the north side have been effectively eliminated by the proximity and volume of operations at Nellis AFB. This has forced VFR traffic transitioning to and from VGT into an area west of VGT.

LAS operations continue to exceed the criteria to qualify for Class B airspace. In calendar year (CY) 2011, LAS ranked eighth on the list of the “50 Busiest FAA Airport Traffic Control Towers,” with over 531,000 airport operations (up approximately 5 per cent from CY 2010 levels). For CY 2010 (the latest validated figures), LAS ranked ninth in the nation for passenger enplanements with just under 19 million. Preliminary numbers for CY 2011 project a 4.52% increase over CY 2010 enplanements. Satellite airport traffic at VGT, HND, and Boulder City Municipal Airport (BVU) has also increased significantly in recent years as have operations at Nellis Air Force Base. In CY 2011, combined airport operations at VGT and HND added over 241,000 operations to the mix.

LAS air traffic navigation procedures have been modified repeatedly over the years to benefit from advances in navigation technology. These advances led to the development of new approach procedures that provide needed course guidance over difficult terrain areas. However, the current LAS Class B airspace design has not kept pace with improvements in navigation capabilities or today's increased traffic volume and complexity. Consequently, the LAS Class B does not fully contain turbine-powered aircraft as required by FAA directives. Some examples that illustrate this problem are: (1) The Runway 25L and 25R ILS approach procedures are not fully contained within the Class B; (2) due to terrain and airspace limitations, controllers routinely must vector aircraft to the Runway 01L ILS localizer course. To enable these aircraft to descend as prescribed to intercept the glide slope at the proper altitude, they are vectored momentarily outside the Class B airspace: And, (3) some RNAV arrivals are not fully contained within the Class B. Containment of large turbine-powered aircraft within Class B airspace is a significant interest of the FAA's Office of Aviation Safety Oversight. The limitations of the current Class B design also contribute to increased air traffic controller workload and radio frequency congestion due to the requirement that controllers issue an advisory to pilots upon exiting and re-entering the Class B.

Pre-NPRM Public Input

An Ad Hoc Committee was formed in early 2010 to review the Las Vegas Class B airspace and provide recommendations to the FAA about the proposed design. The Committee was chaired by the State of Nevada Department of Transportation and consisted of representatives from a range of national and local aviation interests. The Committee held five meetings between March and November 2010 and submitted its recommendations to the FAA in January 2011.

In addition, as announced in the Federal Register (76 FR 35371), three informal airspace meetings were held in the Las Vegas area. The meetings were held on: August 18, 2011, at Centennial High School, Las Vegas, NV; August 23, 2011, at Coronado High School, Henderson, NV; and August 25, 2011 at Shadow Ridge High School, Las Vegas, NV. The purpose of the meetings was to provide interested airspace users an opportunity to present their views and offer suggestions regarding the proposed modifications to the Las Vegas Class B airspace area.

Discussion of Recommendations and Comments

Ad Hoc Committee Input

The Ad Hoc Committee recommendations are discussed below.

The Ad Hoc Committee was nearly equally divided on the proposal to raise the Class B ceiling from 9,000 feet MSL to 10,000 feet MSL. The members objecting to the proposal stated that there are no safety or operational efficiency enhancements to be gained by extending the ceiling to 10,000 feet. They argue instead that the 10,000-foot ceiling would impact the safety and operational efficiency of general aviation.

The current 9,000-foot MSL ceiling is problematic because the amount of airspace usable for air traffic control is reduced by the unique terrain surrounding the terminal area. This affects the minimum vectoring altitude controllers may use in the terminal area and causes a compressive effect on air traffic control (ATC) operations that limits controllers' options for using speed and altitude to sequence and separate traffic. In addition, the current 9,000-foot MSL ceiling allows overflights of the Class B at 9,500 feet MSL, which conflict with LAS arrivals. Raising the Class B ceiling to 10,000 feet MSL would provide operational and safety advantages, such as: More airspace for controllers to accomplish sequencing and allowing for later application of speed control techniques. Another factor is VOR Federal airway V-394, which traverses the area. The airway allows overflight traffic, not in communication with ATC, to cross above the current Class B airspace at 9,500 feet MSL. The airway traffic runs through the LAS arrival flows and conflicts with LAS aircraft utilizing established profile climb and descent procedures. This restricts arrivals from the west from continuing the profile descent. By raising the Class B ceiling, overflight traffic would be required to communicate with ATC unless they are above 10,000 feet MSL. This would allow profile descents to continue unimpeded, or at least allow ATC to approve and separate V-394 users from the profile descent aircraft. LAS departures are also impacted because ATC must vector the departures, at low altitudes relative to the terrain, in order to avoid the nonparticipating traffic. In some cases, ATC must stop departures until the traffic confliction is clear. The FAA estimates that raising the ceiling to 10,000 feet MSL could reduce the number of Traffic Alert and Collision Avoidance System (TCAS) Resolution Advisories (RA) from VFR aircraft in that area by as much as 25 percent.

The Committee recommended that the Area A boundary west of HND be modified to provide more maneuvering room for aircraft operations at HND.

The FAA agrees. The current visual operation into HND is limited by the tight turns required to avoid adjacent Class B airspace. The FAA changed the proposed Area A boundary west of HND from the 180°(T) radial to the 185°(T) radial. This increases available Class D airspace at HND/enhancing the operational safety and usability of the airport.

The Committee requested that the boundaries of Areas B/E, D/S and P/S be aligned along a single Las Vegas VORTAC radial.

The FAA is unable to fully propose this recommendation. The area boundaries cannot be defined along a single radial because it would not provide adequate Class B airspace to contain aircraft on instrument procedures.

The Committee also suggested that: The floor of Area C should be lowered from 6,500 feet MSL to 6,000 feet MSL and the area should be split into two areas (C and D); the southern boundary of Area D should be aligned along the LAS 115°(T) radial; and the western boundary of Area E should be moved to coincide with the Area A boundary.

The FAA agrees with the suggestions and has incorporated them into the proposal.

In Area F, the Committee recommended that: The floor of Area F be lowered to 7,500 feet or higher (instead of the initial design of 6,000 feet) to accommodate general aviation; the western boundary be aligned along the LAS 235°(T) radial (Note: The initial design proposed the LAS 240° radial) or further east if possible; and the eastern boundary be aligned along the LAS 185°(T) radial.

The FAA agrees, in part. The floor of Area F is now proposed at 7,000 feet MSL rather than the Committee's requested 7,500 feet MSL, and the suggested radial alignments have been added.

The Committee suggested that the eastern boundaries of Areas G and H be aligned along the 185°(T) radial to match the Area A boundary; and that floor of Area G, between the 255°(T) and 305°(T) radials, be raised to at least 5,500 feet MSL to improve general aviation operations.

The FAA agrees with the LAS 185°(T) radial alignment for Areas G and H and proposes a new Area T to accommodate the requested 5,500-foot MSL floor. However, the northern boundary of the proposed Area T could not be extended beyond the LAS 295°(T) radial due to interference with the STAAV Departure Procedure.

The Committee wrote that the Area O boundary should be repositioned from the LAS 20 NM arc to the 22 NM arc and the area floor should be retained at 8,000 feet MSL.

The FAA agreed to shift the proposed Area O boundary to the 22 NM arc, but the floor of the area is proposed to be lowered to 7,000 feet MSL so that arriving aircraft can conduct a stabilized descent and remain within Class B airspace.

The Committee recommended that the proposed floor of Area P be raised from 8,000 feet MSL to 9,000 feet MSL; and the eastern boundary be repositioned to the LAS 30 NM arc in order to alleviate congestion between the Class B and the Grand Canyon Special Flight Rules Area.

The FAA is unable to raise the proposed floor as requested. An 8,000-foot floor is required to contain RNAV arrivals within Class B airspace. However, the FAA agrees with moving the proposed eastern boundary westward to the 30 NM arc.

The Committee asked that the floor of Area R be raised to at least 8,500 feet MSL to accommodate glider activity at Jean Airport (0L7).

The initial proposed floor of Area R was 7,000 feet MSL. The FAA agreed to raise the floor to 8,000 feet MSL rather than 8,500 feet. A higher floor could not be approved due to the need to contain ILS approach procedures.

The FAA's initial proposal, as considered by the Committee, included two areas (Area S to the east of LAS; and Area T south of LAS) that extended out as far as the 40-mile arc. The Committee recommended these areas be eliminated and replaced with revised areas to the southeast and west of LAS, respectively.

The FAA concurred with the Committee and in this proposal; Areas S and T have been reconfigured as described in the proposal.

The original FAA proposal also added an Area U between the 15- and 20-mile arcs and bounded by the Las Vegas 160°(T) and 185°(T) radials, with a floor of 7,000 feet MSL. The Committee recommended that this area retain a floor of 8,000 feet MSL due to the Minimum Safe Altitude of 7,400 feet MSL in that area.

The FAA has reconfigured Area U and relabeled it as “Area Q” in this proposal.

Informal Airspace Meeting Comments

The FAA received 19 written comments in response to the Informal Airspace Meetings. These comments were broken down into six categories that are discussed next.

Five comments concerned the proposed 10,000-foot MSL Class B airspace ceiling. Two comments agreed with the proposal, but the remainder were opposed due primarily to the assumed impact on VFR flight operations. This issue was discussed in the Ad Hoc Committee Input section (see above).

Six comments said that the proposal limits available airspace for general aviation aircraft that are attempting to avoid high terrain while remaining clear of, or unable to obtain clearance through, the Class B airspace. The comments focused on high terrain issues and/or limited maneuvering area available to traffic operating to/from VGT, HND and 0L7.

The primary purpose of this proposal is to ensure the containment of large turbine-powered aircraft as required by FAA directives. The Ad Hoc Committee recommendations dealt with similar issues for adjusting the proposed subareas to better accommodate operations and/or simplify description. The FAA incorporated many of these recommendations including: The Area A boundary was adjusted to provide more maneuvering room for HND operations; the floor of area F was set at 7,000 feet MSL instead of 6,000 feet to accommodate general aviation uses; the eastern boundary of Area P was repositioned to the 30 NM arc to alleviate congestion between the Class B airspace and the Grand Canyon Special Flight Rules Area; Area R was modified by raising the proposed floor from 7,000 feet MSL to 8,000 feet MSL, reducing the width of the area by 2 NM and moving the eastern boundary 3 degrees to the west to accommodate glider operations at 0L7; and the proposed Area T was redesigned with a floor of 5,500 feet MSL west of LAS to provide additional airspace outside of Class B for general aviation aircraft in an area of high terrain and populated areas.

Four comments expressed concern about the potential effect of the proposal on sport aircraft operations at 0L7, primarily in Areas F and R.

In October 2011, a Las Vegas TRACON representative met with members of the glider community at Jean Airport to discuss their concerns, specifically regarding the proposed Area R. As a result, the FAA has revised the proposal by reducing the width of Area R by 2 NM and by moving the eastern boundary of the area 3 degrees to the west.

Seven comments provided charting recommendations and/or requested a published VFR transition route through the Class B airspace.

Although VFR charting issues are not part of the rulemaking process, Las Vegas TRACON has developed 16 new VFR waypoints to coincide with the existing VFR checkpoints shown on the VFR charts. In addition, four new VFR checkpoints and waypoints were also developed to assist general aviation aircraft transiting around the Class B. These enhancements are completed and were published beginning with the August 23, 2012 edition of the Las Vegas Terminal Area Chart (TAC) and the Charted VFR Flyway Planning Chart. The FAA continues to evaluate a VFR transition route through Class B airspace to accommodate VFR operators. However, VFR route options are extremely limited by terrain and special use airspace in the Las Vegas vicinity as well as IFR traffic operating on established procedures.

Eleven comments provided specific Class B design recommendations.

A number of these recommendations were not incorporated because they would create airspace that did not meet the need to contain all instrument procedures. Many of the design comments from the Informal Airspace Meetings were also addressed in the Ad Hoc Committee recommendations (see above) and a majority of the Committee's recommendations are set forth in this proposal. One comment from the meeting proposed that the Area G/H border follow the St. Rose Parkway to I-215, to I-515, then east to Area B. The FAA determined that it is not possible to utilize these ground references to establish the boundaries due to existing IFR traffic patterns. However, as discussed above, new VFR waypoints and checkpoints have been added to the VFR charts to assist VFR pilot navigation in the area.

Four commenters asserted that ATC is not very willing to provide Class B service to general aviation aircraft landing or departing the satellite airports. They stated that Class B clearance was commonly denied with pilots being instructed to remain clear of the Class B.

FAA directives state that the provision of additional services (such as Class B service for VFR aircraft) is not optional on the part of the controller, but rather is required when the work situation permits. However, in light of these comments, and Ad Hoc Committee input, the FAA initiated several internal processes to monitor the availability of Class B services being offered and to evaluate those issues that cause the denial of service.

The Proposal

The FAA is proposing an amendment to Title 14, Code of Federal Regulations (14 CFR) part 71 to modify the Las Vegas, NV, Class B airspace area. This action (depicted on the attached chart) would modify the lateral and vertical limits of the Class B airspace to ensure the containment of large turbine-powered aircraft and enhance safety in the Las Vegas terminal area. The FAA proposes to modify each of the original 15 subareas (A through O) and add five new areas (P through T). The lateral limits would be expanded in several areas. To the east of LAS, Area P will extend the outer limit from the current 25 NM out to 30 NM between the 115°(T) and 132°(T) radials. On the southeast, Area S will move the current 20 NM radius to become 30 NM between the 115°(T) and 132°(T) radials. To the south, in Area R, the current 20 NM radius would be changed to 23 NM between the 188°(T) and 225°(T) radials. To the southwest in Area G, a small segment would extend from the current 10 NM out to 20 NM bounded by the 240°(T) radial). The proposal would also raise the ceiling of the entire Class B from the current 9,000 feet MSL to 10,000 feet MSL. The proposed Class B subarea modifications are outlined below. All subareas would extend upward from the specified altitude to 10,000 feet MSL.

Area A. Area A would continue to extend upward from the surface. The southern boundary of the area, in the vicinity of Henderson Executive Airport (HND), would be modified by moving the boundary that lies west of HND from the 180°(T) radial to the 185°(T) radial. This would provide more airspace for operations at HND. In addition, the southeast corner of Area A would be shifted from the 115°(T) radial to the 119°(T) radial to ensure containment of aircraft joining the ILS Runway 25L and 25R approaches.

Area B. The floor of Area B would remain at 4,500 feet MSL. The southern boundary of the area would be moved from the 115°(T) radial to the 119°(T) radial, with a segment along the 16 mile arc in order to retain aircraft in Class B airspace as they descend to capture the ILS Runway 25L or 25R localizer.

Area C. The floor of Area C would be lowered to 6,000 feet MSL instead of the current 6,500 feet. The southern boundary would be moved from the current 125°(T) radial to the 083°(T) radial. On the east, the current 20 mile arc would be moved out to the 22 mile arc. These changes would ensure aircraft are kept in Class B airspace and still allow for a stabilized approach to runways 19L and 19R. The FAA determined that not all of the current Area C airspace would need to be lowered to 6,000 feet MSL. Therefore, Area C would be reduced in size by shifting that portion south of the 083°(T) radial into the proposed Area D with a floor of 6,500 feet MSL.

Area D. Area D would be reconfigured by lowering the floor from 8,000 feet MSL to 6,500 feet MSL, resetting the boundaries between the 16 and 22 mile arcs instead of the current 20 and 25 mile arcs and incorporating a portion of Area C, as described above. The changes would support SUNST and KEPEC RNAV arrivals being vectored to intercept the Runway 25L localizer.

Area E. The floor of Area E would remain at 6,000 feet MSL. The current boundary would be moved from the 115°(T) radial to the 119°(T) radial. This change is required to contain aircraft descending to the proper altitude to capture the ILS approach for Runway 25L or 25R.

Area F. The floor of Area F would be lowered from 8,000 feet MSL to 7,000 feet MSL and the eastern boundary would be shifted from the 125°(T) radial to the 185°(T) radial. This change would contain aircraft that currently exit Class B airspace on the ILS Runway 1L approach.

Area G. The floor of Area G would remain at 5,000 feet MSL. The boundary segment currently along the 235°(T) radial would be moved to the 240°(T) radial and the segment defined by the 295°(T) radial would be shifted to the 255°(T) radial. The remaining segment between the 255°(T) radial and the 295°(T) radial would be redesignated as a new Area T, described below. These changes allow aircraft to remain within Class B airspace while descending for the ILS Runway 25L or 25R approaches and to contain the SHEAD Departure Procedure.

Area H. The floor of Area H would remain at 4,000 feet MSL. The northern boundary would be moved from the 295°(T) radial to the 310°(T) radial and the southern boundary would move from the 180°(T) radial to the 185°(T) radial. The 185°(T) radial would align with previously described area modifications, while the proposed 310°(T) boundary would extend the 4,000-foot Class B floor slightly northward (into the current Area I) to provide separation from the STAAV departure procedure.

Area I. The floor of Area I would remain at 4,500 feet MSL, but a small segment in the southern corner of Area I would be transferred into Area H (with its 4,000-foot MSL floor) as described above.

Area J, Area K, Area L, Area M and Area N. The only change to these areas would be raising the ceiling from 9,000 feet MSL to 10,000 feet MSL.

Area O. The floor of Area O would be lowered to 7,000 feet MSL instead of the current 8,000 feet MSL. In addition, the boundaries would be realigned between the 22 and 25 mile arcs from the 046°(T) radial clockwise to the 083°(T) radial. These changes would ensure containment of arrivals executing the Runway 25L ILS approach, the GRNPA RNAV Arrival and aircraft being vectored from the east to land on Runways 19L and 19R.

Area P. This would be a new subarea with a floor of 8,000 feet MSL. It would extend from the 060°(T) radial clockwise to the 115°(T) radial and bounded on the east by the 30-mile arc and on the west by the modified Areas D and O. Area P would provide containment for four RNAV arrival procedures.

Area Q. This would be a new subarea with a floor of 8,000 feet MSL. It would lie between the 15 and 20 mile arcs from the 132°(T) radial clockwise to the 185°(T) radial. It would consist of airspace currently in the eastern half of Area F. Area Q would contain aircraft being vectored from the southeast to a point where they are turned north for a straight-in approach.

Area R. Area R would be a new subarea with a floor of 8,000 feet MSL. It would expand Class B airspace from the 20 mile arc out to the 23 mile arc, between the 188°(T) radial clockwise to the 225°(T) radial. Area R would ensure containment of aircraft being vectored for the ILS Runway 1L approach.

Area S. Area S would be a new area with a floor of 7,000 feet MSL. It would be located southeast of LAS between the 15 and 27 mile arcs and between the 115°(T) and 132°(T) radials. The area is required to ensure containment of operational procedures into LAS.

Area T. Area T would be a new area with a floor of 5,500 feet MSL. The area would lie west of LAS between the 8 and 10 mile arcs, and the 255°(T) and the 295°(T) radials. The area would be created from a portion of the existing Area G. This area was derived from Ad Hoc Committee discussions proposing to raise the floor of the Class B west of LAS to at least 5,500 feet MSL to provide additional airspace for terrain clearance and flight above populated areas for general aviation operations.

In addition to the above, this action updates the McCarran International Airport reference point (ARP); the Henderson Executive Airport name and ARP; and the North Las Vegas Airport name and ARP to reflect the current information in the FAA's National Airspace System Resource database.

Class B airspace areas are published in paragraph 3000 of FAA Order 7400.9W, dated August 8, 2012 and effective September 15, 2012, which is incorporated by reference in 14 CFR 71.1. The Class B airspace area proposed in this document would be published subsequently in the Order.

Environmental Review

This proposal is subject to an environmental analysis in accordance with FAA Order 1050.1E, “Environmental Impacts: Policies and Procedures” prior to any FAA final regulatory action.

Paperwork Reduction Act

The Paperwork Reduction Act of 1995 (44 U.S.C. 3507(d)) requires that the FAA consider the impact of paperwork and other information collection burdens imposed on the public. We have determined that there is no new information collection requirement associated with this proposed rule.

Regulatory Evaluation Summary

Changes to Federal regulations must undergo several economic analyses. First, Executive Order 12866 and Executive Order 13563 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this proposed rule.

Department of Transportation Order DOT 2100.5 prescribes policies and procedures for simplification, analysis, and review of regulations. If the expected cost impact is so minimal that a proposed or final rule does not warrant a full evaluation, this order permits that a statement to that effect and the basis for it be included in the preamble if a full regulatory evaluation of the cost and benefits is not prepared. Such a determination has been made for this proposed rule. The reasoning for this determination follows:

This action proposes to modify the Las Vegas, NV, Class B airspace area to ensure the containment of large turbine-powered aircraft within Class B airspace, reduce controller workload and reduce the potential for midair collision in the Las Vegas terminal area. The proposal would modify the original subareas, add new subareas and raise the ceiling of the entire Class B airspace from 9,000 feet MSL to 10,000 feet MSL.

The proposed restructuring would result in safety benefits and increased operational efficiencies. This rule would enhance safety by reducing the number of Class B excursions and consequently reducing air traffic controller workload and radio frequency congestion. By expanding the Class B area where aircraft are subject to certain operating rules and equipment requirements it would also reduce the potential for midair collisions and could reduce TCAS advisories by as much as 25%. The proposed modification of the Class B airspace would provide operational advantages as well, such as allowing more airspace for controllers to accomplish sequencing and reducing the need for controllers to vector LAS arrivals and departures to avoid nonparticipating traffic.

The FAA expects some operational efficiencies from the larger Class B airspace offset slightly by possible VFR reroutings resulting in minimal cost overall, would not require updating of materials outside the normal update cycle, and would not require rerouting of IFR traffic. The redefined Class B airspace might possibly cause some VFR traffic to travel alternative routes which are not expected to be appreciably longer than with the current airspace design.

The expected outcome would be a minimal impact with positive net benefits, and a regulatory evaluation was not prepared. The FAA requests comments with supporting justification about the FAA determination of minimal impact.

FAA has, therefore, determined that this proposed rule is not a “significant regulatory action” as defined in section 3(f) of Executive Order 12866, and is not “significant” as defined in DOT's Regulatory Policies and Procedures.

Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

The proposed rule is expected to improve safety and efficiency by redefining Class B airspace boundaries and would impose only minimal costs because it would not require rerouting of IFR traffic, could possibly cause some VFR traffic to travel alternative routes that are not expected to be appreciably longer than with the current airspace design, and would not require updating of materials outside the normal update cycle. Therefore, the expected outcome would be a minimal economic impact on small entities affected by this rulemaking action. Therefore, the FAA certifies this proposed rule, if promulgated, would not have a significant impact on a substantial number of small entities. The FAA solicits comments regarding this determination. Specifically, the FAA requests comments on whether the proposed rule creates any specific compliance costs unique to small entities. Please provide detailed economic analysis to support any cost claims. The FAA also invites comments regarding other small entity concerns with respect to the proposed rule.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such the protection of safety, and does not operate in a manner that excludes imports that meet this objective. The statute also requires consideration of international standards and, where appropriate, that they be the basis for U.S. standards. The FAA has assessed the potential effect of this proposed rule and determined that it would have only a domestic impact and therefore no effect on international trade.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $143.1 million in lieu of $100 million. This proposed rule does not contain such a mandate; therefore, the requirements of Title II of the Act do not apply.

List of Subjects in 14 CFR Part 71

Airspace, Incorporation by reference, Navigation (air)

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9W, Airspace Designations and Reporting Points, dated August 8, 2012, and effective September 15, 2012, is amended as follows:

Paragraph 3000 Subpart B-Class B Airspace

* * * * *

AWP NV B Las Vegas, NV

McCarran International Airport (Primary Airport)

(Lat. 36°04′48″ N., long. 115°09′08″ W.)

Las Vegas VORTAC

(Lat. 36°04′47″ N., long. 115°09′35″ W.)

Henderson Executive Airport

(Lat. 35°58′22″ N., long. 115°08′04″ W.)

North Las Vegas Airport

(Lat. 36°12′39″ N., long. 115°11′40″ W.)

Boundaries.

Area A. That airspace extending upward from the surface to and including 10,000 feet MSL within an area bounded by a line beginning at the Las Vegas VORTAC 020°(T)/005°(M) radial at 15 DME (Lat. 36°18′54″ N., long. 115°03′14″ W.); thence along a line direct to the Las Vegas VORTAC 033°(T)/018°(M) radial at 20 DME (Lat. 36°21′34″ N., long. 114°56′06″ W.); thence northeast along that radial to the 25 DME point (Lat. 36°25′46″ N., long. 114°52′43″ W.); thence clockwise along the 25 DME arc to the Las Vegas VORTAC 046°(T)/031°(M) radial (Lat. 36°22′08″ N., long. 114°47′19″ W.); thence southwest along that radial, to the 10 DME point (Lat. 36°11′44″ N., long. 115°00′42″ W.); thence clockwise along the 10 DME arc to the Las Vegas VORTAC 119°(T)/104°(M) radial (Lat. 35°59′55″ N., long. 114°58′49″ W.); thence west along a line direct to the Las Vegas VORTAC 185°(T)/170°(M) radial at 4.4 DME (Lat. 36°00′24″ N., long. 115°10′04″ W.); thence south along that radial to the 6 DME point (Lat. 35°58′48″ N., long. 115°10′14″ W.); thence clockwise along the 6 DME arc to (Lat. 36°10′19″ N., long. 115°12′29″ W.); thence counterclockwise along the 2.4-mile radius arc of North Las Vegas Airport to Lat. 36°12′04″ N., long. 115°08′47″ W.; thence north along the Las Vegas VORTAC 005°(T)/350°(M) radial to 15 DME (Lat. 36°19′45″ N., long. 115°07′58″ W.); thence clockwise along the 15 DME arc to the point of beginning.

Area B. That airspace extending upward from 4,500 feet MSL to and including 10,000 feet MSL within an area bounded by a line beginning at the Las Vegas VORTAC 046°(T)/031°(M) radial at 10 DME, (Lat. 36°11′44″ N., long 115°00′42″ W.); thence northeast along that radial to 15 DME (Lat. 36°15′12″ N., long. 114°56′15″ W.); thence clockwise along the 15 DME arc to the Las Vegas VORTAC 083°(T)/068°(M) radial (Lat. 36°06′35″ N., long. 114°51′13″ W.); thence east along that radial to 16 DME (Lat. 36°06′43″ N., long. 114°49′59″ W.); thence clockwise along the 16 DME arc to the Las Vegas VORTAC 115°(T)/100°(M) radial (Lat. 35°57′59″ N., long. 114°51′43″ W.); thence northwest along that radial to 15 DME (Lat. 35°58′25″ N., long. 114°52′50″ W.); thence clockwise along the 15 DME arc to the Las Vegas VORTAC 119°(T)/104°(M) radial (Lat. 35°57′29″ N., long. 114°53′26″ W.); thence northwest along that radial to 10 DME (Lat. 35°59′55″ N., long. 114°58′49″ W.); thence counterclockwise along the 10 DME arc to the point of beginning.

Area C. That airspace extending upward from 6,000 feet MSL to and including 10,000 feet MSL within an area bounded by a line beginning at the Las Vegas VORTAC 046°(T)/031°(M) radial at 15 DME (Lat. 36°15′12″ N., long. 114°56′15″ W.); thence northeast along that radial to 22 DME (Lat. 36°20′04″ N., long. 114°50′00″ W.); thence clockwise along the 22 DME arc to the Las Vegas VORTAC 083°(T)/068°(M) radial (Lat. 36°07′25″ N., long. 114°42′38″ W.); thence northwest along that radial to 15 DME (Lat. 36°06′35″ N., long. 114°51′13″ W.); thence counterclockwise along the 15 DME arc to the point of beginning.

Area D. That airspace extending upward from 6,500 feet MSL to and including 10,000 feet MSL within an area bounded by a line beginning at the Las Vegas VORTAC 083°(T)/068°(M) radial at 16 DME (Lat. 36°06′43″ N., long. 114°49′03″ W.); thence northeast along that radial to 23 DME (Lat. 36°07′34″ N., long. 114°41′03″ W.); thence clockwise along the 23 DME arc to the Las Vegas VORTAC 115°(T)/100°(M) radial (Lat. 35°55′26″ N., long. 114°45′02″ W.); thence west along that radial to 16 DME (Lat. 35°57′59″ N., long. 114°51′43″ W.); thence counterclockwise along the 16 DME arc to the point of beginning.

Area E. That airspace extending upward from 6,000 feet MSL to and including 10,000 feet MSL within an area bounded by a line beginning at the Las Vegas VORTAC 119°(T)/104°(M) radial at 10 DME (Lat. 35°59′55″ N., long. 114°58′49″ W.); thence southeast along that radial to 15 DME (Lat. 35°57′29″ N., long. 114°53′26″ W.); thence clockwise along the 15 DME arc to the Las Vegas VORTAC 185°(T)/170°(M) radial (Lat. 35°49′49″ N., long. 115°11′12″ W.); thence north along that radial to 10 DME (Lat. 35°54′48″ N., long. 115°10′40″ W.); thence counterclockwise along the 10 DME arc to the point of beginning.

Area F. That airspace extending upward from 7,000 feet MSL to and including 10,000 feet MSL within an area bounded by a line beginning at the Las Vegas VORTAC 185°(T)/170°(M) radial at 15 DME (Lat. 35°49′49″ N., long. 115°11′12″ W.); thence south along that radial to 20 DME (Lat. 35°44′50″ N., long. 115°11′44″ W.); thence clockwise along the 20 DME arc to the Las Vegas VORTAC 235°(T)/220°(M) (Lat. 35°53′16″ N., long. 115°29′45″ W.); thence northeast along that radial to 15 DME (Lat. 35°56′09″ N., long. 115°24′43″ W.); thence counterclockwise along the 15 DME arc to the point of beginning.

Area G. That airspace extending upward from 5,000 feet MSL to and including 10,000 feet MSL within an area bounded by a line beginning at the Las Vegas VORTAC 119°(T)/104°(M) radial at 10 DME (Lat. 35°59′55″ N., long. 114°58′49″ W.); thence clockwise along the 10 DME arc to the Las Vegas VORTAC 185°(T)/170°(M) radial (Lat. 35°54′48″ N., long. 115°10′40″ W.); thence south along that radial to 15 DME (Lat. 35°49′49″ N., long. 115°11′12″ W.); thence clockwise along the 15 DME arc to the Las Vegas 240°(T)/225°(M) radial (Lat. 35°57′15″ N., long. 115°25′35″ W.); thence northeast along that radial to 10 DME (Lat. 35°59′46″ N., long. 115°20′16″ W.); thence clockwise along the 10 DME arc to the Las Vegas VORTAC 255°(T)/240°(M) radial (Lat. 36°02′11″ N., long. 115°21′30″ W.); thence east along that radial to 8 DME (Lat. 36°02′42″ N., long. 115°19′07″ W.); thence counterclockwise along, the 8 DME arc to the Las Vegas VORTAC 185°(T)/170°(M) radial (Lat. 35°56′48″ N., long. 115°10′27″ W.); thence north along that radial to 4.4 DME (Lat. 36°00′24″ N., long. 115°10′04″ W.); thence east along, a line direct to the point of beginning.

Area H. That airspace extending upward from 4,000 feet MSL to and including 10,000 feet MSL within an area bounded by a line beginning at the Las Vegas 310°(T)/295°(M) radial at 8 DME (36°09′56″ N., long. 115°17′09″ W.); thence southeast along that radial to 6 DME (Lat. 36°08′39″ N., long. 115°15′16″ W.); thence counterclockwise along the 6 DME arc to the Las Vegas VORTAC 185°(T)/170°(M) radial (Lat. 35°58′48″ N., long. 115°10′14″ W.); thence south along that radial to 8 DME (Lat. 35°56′48″ N., long. 115°10′27″ W.); thence clockwise along the 8 DME arc to the point of beginning.

Area I. That airspace extending upward from 4,500 feet MSL to and including 10,000 feet MSL within an area bounded by a line beginning at the Las Vegas VORTAC 310°(T)/295°(M) radial at 6 DME (Lat. 36°08′39″ N., long. 115°15′16″ W.); thence northwest along that radial to 8 DME (Lat. 36°09′56″ N., long. 115°17′09″ W.); thence counterclockwise along the 8 DME arc to the Las Vegas VORTAC 295°(T)/280°(M) radial (Lat. 36°08′10″ N., long. 115°18′32″ W.); thence northwest along that radial to 10 DME (Lat. 36°09′00″ N., long. 115°20′47″ W.); thence clockwise along the 10 DME arc to Lat. 36°14′12″ N., long.115°13′53″ W.; thence northwest along U.S. Highway 95 to Lat. 36°15′04″ N., long. 115°14′28″ W.; thence clockwise along the Las Vegas VORTAC 11 DME arc to the Las Vegas VORTAC 005°(T)/350°(M) radial (Lat. 36°15′45″ N., long. 115°08′24″ W.); thence south along the Las Vegas VORTAC 005°(T)/350°(M) radial to Lat. 36°12′04″ N., long. 115°08′47″ W.; thence clockwise along the 2.4-mile radius arc of the North Las Vegas Airport to Lat. 36°10′19″ N., long. 115°12′29″ W.; thence counterclockwise along the Las Vegas VORTAC 6 DME arc to the point of beginning.

Area J. That airspace extending upward from 5,000 feet MSL to and including 10,000 feet MSL within an area bounded by a line beginning at the Las Vegas VORTAC 005°(T)/350°(M) radial at 11 DME (Lat. 36°15′45″ N., long. 115°08′24″ W.); thence north along that radial to 15 DME (Lat. 36°19′45″ N., long. 115°07′58″ W.); thence counterclockwise along the 15 DME arc to U.S. Highway 95 (Lat. 36°18′22″ N., long. 115°17′31″ W.); thence southeast along U.S. Highway 95 to the 11 DME arc (Lat. 36°15′04″ N., long. 115°14′28″ W.); thence clockwise along the 11 DME arc to the point of beginning.

Area K. That airspace extending upward from 6,500 feet MSL to and including 10,000 feet MSL within an area beginning at the intersection of U.S. Highway 95 and the Las Vegas VORTAC 15 DME arc (Lat. 36°18′22″ N., long. 115°17′31″ W.); thence northwest along U.S. Highway 95 to intersect the Las Vegas VORTAC 20 DME arc (Lat. 36°22′11″ N., long. 115°21′49″ W.); thence clockwise along the 20 DME arc to the Las Vegas VORTAC 033°(T)/018°(M) radial (Lat. 36°21′34″ N., long. 114°56′06″ W.); thence via a line direct to the Las Vegas VORTAC 020°(T)/005°(M) radial at 15 DME (Lat. 36°18′54″ N., long. 115°03′14″ W.); thence counterclockwise along the 15 DME arc to the point of beginning.

Area L. That airspace extending upward from 7,500 feet MSL to and including 10,000 feet MSL bounded by a line beginning at the Las Vegas VORTAC 033°(T)/018°(M) radial at 36 DME (Lat. 36°34′59″ N., long. 114°45′15″ W.); thence southwest along that radial to 20 DME (Lat. 36°21′34″ N., long. 114°56′06″ W.); thence counterclockwise along the 20 DME arc to U.S. Highway 95 (Lat. 36°22′11″ N., long. 115°21′49″ W.); thence direct to the Las Vegas VORTAC 005°(T)/350°(M) radial at 36 DME (Lat. 36°40′42″ N., long. 115°05′41″ W.); thence clockwise along the 36 DME arc to the point of beginning.

Area M. That airspace extending upward from 5,000 feet MSL to and including 10,000 feet MSL within an area bounded by a line beginning at the Las Vegas VORTAC 033°(T)/018°(M) radial at 30 DME (Lat. 36°29′57″ N., long. 114°49′19″ W.); thence clockwise along the 30 DME arc to the Las Vegas VORTAC 046°(T)/031°(M) radial at 30 DME (Lat. 36°25′36″ N., long. 114°42′51″ W.); thence southwest along that radial to 25 DME (Lat. 36°22′08″ N., long. 114°47′19″ W.); thence counter clockwise along the 25 DME arc to the Las Vegas VORTAC 033°(T)/018°(M) radial (Lat. 36°25′46″ N., long. 114°52′43″ W.); thence northeast along that radial to the point of beginning.

Area N. That airspace extending upward from 7,000 feet MSL to and including 10,000 feet MSL within an area bounded by a line beginning at the Las Vegas VORTAC 033°(T)/018°(M) radial at 36 DME (Lat. 36°34′59″ N., long. 114°45′15″ W.); thence clockwise along the 36 DME arc to the Las Vegas VORTAC 046°(T)/031°(M) radial at 36 DME (Lat. 36°29′45″ N., long. 114°37′28″ W.); thence southwest along that radial to 30 DME (Lat. 36°25′36″ N., long. 114°42′51″ W.); thence counterclockwise along the 30 DME arc to the Las Vegas VORTAC 033°(T)/018°(M) radial (Lat. 36°29′57″ N., long. 114°49′19″ W.); thence northeast along that radial to the point of beginning.

Area O. That airspace extending upward from 7,000 feet MSL to and including 10,000 feet MSL within an area bounded by a line beginning at the Las Vegas VORTAC 046°(T)/031°(M) radial at 25 DME (Lat. 36°22′08″ N., long. 114°47′19″ W.); thence clockwise along the 25 DME arc to the Las Vegas VORTAC 083°(T)/068°(M) radial (Lat. 36°07′46″ N., long. 114°38′57″ W.); thence west along that radial to 22 DME (Lat. 36°07′25″ N., long. 114°42′38″ W.); thence counterclockwise along the 22 DME arc to the Las Vegas VORTAC 046°(T)/031°(M) radial (Lat. 36°20′04″ N., long 114°50′00″ W.); thence northeast along that radial to the point of beginning.

Area P. That airspace extending upward from 8,000 feet MSL to and including 10,000 feet MSL within an area bounded by a line beginning at the Las Vegas VORTAC 060°(T)/045°(M) radial at 25 DME (Lat. 36°17′ 15″ N., long. 114°42′ 48″ W.); thence northeast along that radial to 30 DME (Lat. 36°19′ 44″ N., long. 114°37′ 26″ W.); thence clockwise along the 30 DME arc to the Las Vegas VORTAC 115°(T)/100°(M) radial (Lat. 35°52′ 00″ N., long. 114° 36′ 08″ W.); thence northwest along that radial to 23 DME (Lat. 35°54′ 51″ N., long. 114°43′ 34″ W.); thence counterclockwise along the 23 DME arc to the Las Vegas VORTAC 083°(T)/068°(M) radial (Lat. 36°07′ 25″ N., long. 114°42′ 38″ W.); thence east along that radial to 25 DME (Lat. 36°07′ 46″ N., long. 114°38′ 57″ W.); thence counterclockwise along the 25 DME arc to the point of beginning.

Area Q. That airspace extending upward from 8,000 feet MSL to and including 10,000 feet MSL within an area bounded by a line beginning at the Las Vegas VORTAC 132°(T)/117°(M) radial at 15 DME (Lat.35°54′ 43″ N., long. 114°55′ 52″ W.); thence southeast along that radial to 20 DME (Lat. 35°51′ 21″ N., long. 114°51′ 18″ W.); thence clockwise along the 20 DME arc to the Las Vegas VORTAC 185°(T)/170°(M) radial (Lat. 35°44′ 50″ N., long. 115°11′ 44″ W.); thence north along that radial to 15 DME (Lat. 35°49′ 49″ N., long. 115°11′ 12″ W.); thence counterclockwise along the 15 DME arc to the point of beginning.

Area R. That airspace extending upward from 8,000 feet MSL to and including 10,000 feet MSL within an area bounded by a line beginning at Las Vegas VORTAC 188°(T)/173°(M) radial at 20 DME (Lat. 35°44′ 57″ N., long. 115°13′ 00″ W.); thence south along that radial to 23 DME (Lat. 35°41′ 58″ N., long. 115°13′ 31″ W.); thence clockwise along the 23 DME arc to the Las Vegas VORTAC 225°(T)/210°(M) radial (Lat. 35°48′ 28″ N., long. 115°29′ 35″ W.); thence northeast along that radial to 20 DME (Lat. 35°50′ 36″ N., long. 115°26′ 59″ W.); thence counterclockwise along the 20 DME arc to the point of beginning.

Area S. That airspace extending upward from 7,000 feet MSL to and including 10,000 feet MSL within an area bounded by a line beginning at the Las Vegas VORTAC 115°(T)/100°(M) radial at 15 DME (Lat. 35°58′ 25″ N., long. 114°52′ 50″ W.); thence southeast along that radial to 27 DME (Lat. 35°53′ 18″ N., long. 114°39′ 28″ W.); thence clockwise along the 27 DME arc to the Las Vegas VORTAC 132°(T)/117°(M) radial (Lat. 35°46′ 39″ N., long. 114°44′ 56″ W.); thence northwest along that radial to 15 DME (Lat. 35°54′ 43″ N., long. 114°55′ 52″ W.); thence counterclockwise along the 15 DME arc to the point of beginning.

Area T. That airspace extending upward from 5,500 feet MSL to and including 10,000 feet MSL within an area bounded by a line beginning at the Las Vegas VORTAC 255°(T)/240°(M) radial at 8 DME (Lat. 36°02′ 42″ N., long. 115°19′ 07″ W.); thence west along that radial to 10 DME (Lat. 36°02′ 11″ N., long. 115°21′ 30″ W.); thence clockwise along the 10 DME arc to the Las Vegas VORTAC 295°(T)/280°(M) radial (Lat. 36°09′ 00″ N., long. 115°20′ 47″ W.); thence southeast along that radial to 8 DME (Lat. 36°08′ 10″ N., long. 115°18′ 32″ W.); thence counterclockwise along the 8 DME arc to the point of beginning.

BILLING CODE 4910-13-P

Issued in Washington, DC, on October 11, 2012.
Gary A. Norek,
Manager, Airspace Policy and ATC Procedures Group.

[FR Doc. 2012-26335 Filed 10-25-12; 8:45 am]

BILLING CODE 4910-13-C